DEPARTMENT OF COMMERCE

Foreign-Trade Zones Board

[Docket 55-2011]

Foreign-Trade Zone 14—Little Rock, AR; Application for Subzone; Mitsubishi Power Systems Americas, Inc. (Wind Turbine Nacelles and Generating Sets); Fort Smith, AR

An application has been submitted to the Foreign-Trade Zones Board (the Board) by the Arkansas Economic Development Commission, grantee of FTZ 14, requesting special-purpose subzone status for the wind turbine nacelle and generating set manufacturing facility of Mitsubishi Power Systems Americas, Inc. (MPSA) located in Fort Smith, Arkansas. The application was submitted pursuant to the provisions of the Foreign-Trade Zones Act, as amended (19 U.S.C. 81a-81u), and the regulations of the Board (15 CFR part 400). It was formally filed on August 19, 2011.

The MPSA facility (90 acres/approximately 335 employees) is located at 8201 Chad Colley Boulevard in Fort Smith (Sebastian County), Arkansas. The facility, currently under construction, will be used to manufacture and distribute wind turbine nacelles, generating sets and related components (up to 250 nacelles, 250 generating sets, and 750 nacelle components (front and rear modules, rotor heads) annually) for the U.S. market and export. Foreign components and materials (representing up to 56% of the finished products' value) that would be used in the manufacturing activity would include: grease, oils, epoxy/resins, paint, filler, sealants, electrical tape, adhesives, plastic tubes/pipes, self-adhesive plates/sheets/film of plastics, gaskets/washers/seals of plastics and rubber, articles of plastic and rubber, wire and cable, fasteners (of steel, copper, aluminum), tubes/pipes and related fittings of steel and copper, brackets, flanges, base metal mountings, chain, guide bars, hinges, linear/rotary action cylinders, electrical equipment, connectors, panels, displays, motors, generators, batteries, profile projectors and parts, ducts, clamps, control valves, gears, transmission shafts, flywheels, clutches, couplings, pulleys, springs, pumps, fans, compressors, air/water coolers, evaporators, heat exchangers, filters, balancing weights, plates, controllers, hydraulic assemblies, accumulators, valves, bearings, housings, lighting equipment, windings, electronic components, thermometers, hydrometers, gauges, measuring instruments, heaters, thermostats, regulators, switches, lamps, clock movements, and discharge brushes (duty rate range: free—9.0%; 45¢ ea.+6.4%+25¢/jewel).

FTZ procedures could exempt MPSA from customs duty payments on the foreign components and materials used in export production (as much as 25% of annual shipments). On domestic shipments, the company would be able to elect the duty rate that applies to finished wind turbine nacelles, generating sets, and nacelle components (duty rate range: free—3.0%) for the foreign production inputs noted above. MPSA would also be exempt from duty payments on any foreign-origin inputs that become scrap or waste during manufacturing. Subzone status would further allow MPSA to realize logistical benefits through the use of weekly customs entry procedures. The application indicates that the savings from FTZ procedures would help improve the facility's international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is October 25, 2011. Rebuttal comments in response to material submitted during the foregoing period may be submitted during the subsequent 15-day period to November 9, 2011.

A copy of the application will be available for public inspection at the Office of the Foreign-Trade Zones Board's Executive Secretary at the address listed above and in the “Reading Room” section of the Board's Web site, which is accessible via http://www.trade.gov/ftz. For further information, contact Pierre Duy at Pierre.Duy@trade.gov or (202) 482-1378.

Dated: August 19, 2011.
Andrew McGilvray,
Executive Secretary.

[FR Doc. 2011-21941 Filed 8-25-11; 8:45 am]

BILLING CODE P